DEPARTMENT OF HOUSING AND URBAN DEVELOPMENT [REMOVED PRIVATE FIELD]

[Docket No. FR-5477-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; Army: Ms. Veronica Rines, Department of the Army, Office of the Assistant Chief of Staff for Installation Management, DAIM-ZS, Room 8536, 2511 Jefferson Davis Hwy, Arlington, VA 22202 Coast Guard: Commandant, United States Coast Guard, Attn: Jennifer Stomber, 2100 Second St., SW., Stop 7901, Washington, DC 20593-0001; (202) 475-5609; GSA: Mr. Gordon Creed, Acting Deputy Assistant Commissioner, General Services Administration, Office of Property Disposal, 18th & F Streets, NW., Washington, DC 20405; (202) 501-0084; Interior: Mr. Michael Wright, Acquisition & Property Management, Department of the Interior, 1801 Pennsylvania Ave, NW., 4th Floor, Washington, DC 20006: (202) 208-5399; Navy: Mr. Albert Johnson, Director of Real Estate, Department of the Navy, Naval Facilities Engineering Command, Washington Navy Yard, 1330 Patterson Ave., SW., Suite 1000, Washington, DC 20374; (202) 685-9305; (These are not toll-free numbers).

Dated: May 26, 2011.
Mark R. Johnston,
Deputy Assistant Secretary for Special Needs.

TITLE V, FEDERAL SURPLUS PROPERTY PROGRAM FEDERAL REGISTER REPORT FOR 06/03/2011

Suitable/Available Properties

Building

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Colorado

7 Bldgs.

U.S. Air Force Academy

El Paso CO 80840

Landholding Agency: Air Force

Property Number: 18201020002

Status: Unutilized

Directions: 6501, 6502, 6503, 6504, 6505, 6507, and 6508

Comments: 2222 sq. ft. each

Bldg. 6506

US Air Force Academy

El Paso CO 80840

Landholding Agency: Air Force

Property Number: 18201020019

Status: Unutilized

Comments: 2222 sq. ft.

Bldg. 810—Trailer

270 South Aspen Street

Buckley AFB

Aurora CO

Landholding Agency: Air Force

Property Number: 18201110005

Status: Unutilized

Comments: Off-site removal only; 1,768 sq. ft; current use: pilot crew qtrs., fair conditions—$5,000 (estimated in repairs)

Bldg 811—Crews Trailer

272 South Aspen Street

Buckley AFB

Aurora CO 80011

Landholding Agency: Air Force

Property Number: 18201110008

Status: Unutilized

Comments: Off-site removal only, 2340 sq. ft., current use; pilot crew qtrs., fair conditions —estimated $5,000 in repairs

Hawaii

Bldg. 849

Bellows AFS

Bellows AFS HI

Landholding Agency: Air Force

Property Number: 18200330008

Status: Unutilized

Comments: 462 sq. ft., concrete storage facility, off-site use only

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified most current use: unknown.

Maine

Bldgs 1, 2, 3, 4

OTH-B Radar Site

Columbia Falls ME

Landholding Agency: Air Force

Property Number: 18200840009

Status: Unutilized

Comments: Various sq. ft., most recent use—storage/office

Minnesota

FAA Outer Marker

9935 Newton Ave.

Minneapolis MN 55431

Landholding Agency: GSA

Property Number: 54201120010

Status: Excess

GSA Number: 1-I-MN-594

Comments: Public space and utilities easements; 108 sq. ft.

New York

Bldg. 240

Rome Lab

Rome NY 13441

Landholding Agency: Air Force

Property Number: 18200340023

Status: Unutilized

Comments: 39108 sq. ft., presence of asbestos, most recent use—Electronic Research Lab

Bldg. 247

Rome Lab

Rome NY 13441

Landholding Agency: Air Force

Property Number: 18200340024

Status: Unutilized

Comments: 13199 sq. ft., presence of asbestos, most recent use—Electronic Research Lab

Bldg. 248

Rome Lab

Rome NY 13441

Landholding Agency: Air Force

Property Number: 18200340025

Status: Unutilized

Comments: 4000 sq. ft., presence of asbestos, most recent use—Electronic Research Lab

Bldg. 302

Rome Lab

Rome NY 13441

Landholding Agency: Air Force

Property Number: 18200340026

Status: Unutilized

Comments: 10288 sq. ft., presence of asbestos, most recent use—communications facility

South Carolina

256 Housing Units

Charleston AFB

South Side Housing

Charleston SC

Landholding Agency: Air Force

Property Number: 18200920001

Status: Excess

Comments: Various sq. ft., presence of asbestos/lead paint, off-site use only

Texas

FAA RML Facility

11262 N. Houston Rosslyn Rd.

Houston TX 77086

Landholding Agency: GSA

Property Number: 54201110016

Status: Surplus

GSA Number: 7-U-TX-1129

Comments: 448 sq. ft., recent use: storage, asbestos has been identified in the floor

Virginia

Hampton Rds, Shore Patrol Bldg

811 East City Hall Ave

Norfolk VA 23510

Landholding Agency: GSA

Property Number: 54201120009

Status: Excess

GSA Number: 4-N-VA-758

Comments: 9,623 sq. ft.; current use: storage, residential

Land

California

Parcels L1 & L2

George AFB

Victorville CA 92394

Landholding Agency: Air Force

Property Number: 18200820034

Status: Excess

Comments: 157 acres/desert, pump-and-treat system, groundwater restrictions, AF access rights, access restrictions, environmental concerns

Louisiana

Almonaster

4300 Almonaster Ave.

New Orleans LA 70126

Landholding Agency: GSA

Property Number: 54201110014

Status: Surplus

GSA Number: 7-D-LA-0576

Comments: 9.215 acres

Missouri

Communications Site

County Road 424

Dexter MO

Landholding Agency: Air Force

Property Number: 18200710001

Status: Unutilized

Comments: 10.63 acres

Outer Marker Annex

Whiteman AFB

Knob Noster MO 65336

Landholding Agency: Air Force

Property Number: 18200940001

Status: Unutilized

Comments: 0.75 acres, most recent use—communication

Annex No. 3

Whiteman AFB

Knob Noster MO 65336

Landholding Agency: Air Force

Property Number: 18201020001

Status: Underutilized

Comments: 9 acres

North Carolina

0.14 acres

Pope AFB

Pope AFB NC

Landholding Agency: Air Force

Property Number: 18200810001

Status: Excess

Comments: Most recent use—middle marker, easement for entry

Texas

0.13 acres

DYAB, Dyess AFB

Tye TX 79563

Landholding Agency: Air Force

Property Number: 18200810002

Status: Unutilized

Comments: Most recent use—middle marker, access limitation

Suitable/Unavailable Properties

Building

Alaska

Dalton-Cache Border Station

Mile 42 Haines Highway

Haines AK 99827

Landholding Agency: GSA

Property Number: 54201010019

Status: Excess

GSA Number: 9-G-AK-0833

Directions: Bldgs. 1 and 2

Comments: 1,940 sq. ft., most recent use—residential and off-site removal only

Arizona

Willcox Patrol Station

200 W. Downew Street

Willcox AZ 85643-2742

Landholding Agency: GSA

Property Number: 54201110004

Status: Surplus

GSA Number: 9-X-AZ-0860

Comments: 2,448 sq. ft., most recent use: detention facility

California

Defense Fuel Support Pt.

Estero Bay Facility

Morro Bay CA 93442

Landholding Agency: GSA

Property Number: 54200810001

Status: Surplus

GSA Number: 9-N-CA-1606

Comments: Former 10 acre fuel tank farm w/associated bldgs/pipelines/equipment, possible asbestos/PCBs

Former SSA Bldg.

1230 12th Street

Modesto CA 95354

Landholding Agency: GSA

Property Number: 54201020002

Status: Surplus

GSA Number: 9-G-CA-1610

Comments: 11,957 sq. ft., needs rehab/seismic retrofit work, potential groundwater contamination below site, potential flooding

Georgia

Fed. Bldg. Post Office/Court

404 N. Broad St.

Thomasville GA 31792

Landholding Agency: GSA

Property Number: 54201110006

Status: Surplus

GSA Number: 4-G-GA-878AA

Comments: 49,366 total sq. ft. Postal Svc currently occupies 11,101 sq. ft. through Sept. 30, 2012. Current usage: gov't offices, asbestos has been identified as well as plumbing issues.

Iowa

U.S. Army Reserve

620 West 5th St.

Garner IA 50438

Landholding Agency: GSA

Property Number: 54200920017

Status: Excess

GSA Number: 7-D-IA-0510

Comments: 5,743 sq. ft., presence of lead paint, most recent use—offices/classrooms/storage, subject to existing easements

Maryland

Appraisers Store

Baltimore MD 21202

Landholding Agency: GSA

Property Number: 54201030016

Status: Excess

GSA Number: 4-G-MD-0623

Comments: Redetermination: 169,801 sq. ft., most recent use—federal offices, listed in the Nat'l Register of Historic Places, use restrictions

Michigan

Social Security Bldg.

929 Stevens Road

Flint MI 48503

Landholding Agency: GSA

Property Number: 54200720020

Status: Excess

GSA Number: 1-G-MI-822

Comments: 10,283 sq. ft., most recent use—office

CPT George S. Crabbe USARC

2901 Webber Street

Saginaw MI

Landholding Agency: GSA

Property Number: 54201030018

Status: Excess

GSA Number: 1-D-MI-835

Comments: 3,891 sq. ft., 3-bay garage maintenance building

Mississippi

James O. Eastland

245 East Capitol St.

Jackson MS 39201-2409

Landholding Agency: GSA

Property Number: 54201040020

Status: Excess

GSA Number: 4-G-MS-0567-AA

Directions: Federal Bldg. and Courthouse

Comments: 14,000 sq. ft., current/recent use: gov't offices and courtrooms, asbestos identified behind walls, and historic bldg. preservation covenants will be included in the Deed of Conveyance

Land

Vicksburg

Vicksburg MS 39180

Landholding Agency: GSA

Property Number: 54201110007

Status: Excess

GSA Number: 4-D-MS-0568-AA

Comments: 11 acres, unpaved w/radio tower on the land, current use: communications, Warren Co. currently holds the license until 08/31/2014 however, revocable by the Sect. of Army

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

New Hampshire

Federal Building

719 Main St.

Parcel ID: 424-124-78

Laconia NH 03246

Landholding Agency: GSA

Property Number: 54200920006

Status: Excess

GSA Number: 1-G-NH-0503

Comments: 31,271 sq. ft., most recent use—office bldg., National Register nomination pending

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

North Carolina

Greensboro Federal Bldg.

320 Federal Place

Geensboro NC 27401

Landholding Agency: GSA

Property Number: 54201040018

Status: Excess

GSA Number: 4-G-NC-750

Comments: 94,809 sq. ft. office bldg., major structural issues exist with exterior brick facade

Ohio

Oxford USAR Facility

6557 Todd Road

Oxford OH 45056

Landholding Agency: GSA

Property Number: 54201010007

Status: Excess

GSA Number: 1-D-OH-833

Comments: Office bldg./mess hall/barracks/simulator bldg./small support bldgs., structures range from good to needing major rehab

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

Oregon

3 Bldgs/Land

OTHR-B Radar

Cty Rd 514

Christmas Valley OR 97641

Landholding Agency: GSA

Property Number: 54200840003

Status: Excess

GSA Number: 9-D-OR-0768

Comments: 14,000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Residence

140 Government Road

Malheur Nat'l Forest

John Day OR 97845

Landholding Agency: GSA

Property Number: 54201040012

Status: Excess

GSA Number: 9-A-OR-0786-AA

Comments:1560 sq. ft., presence of asbestos/lead paint, off-site use only

South Carolina

Naval Health Clinic

3600 Rivers Ave.

Charleston SC 29405

Landholding Agency: GSA

Property Number: 54201040013

Status: Excess

GSA Number: 4-N-SC-0606

Comments: Redetermination: 399,836 sq. ft., most recent use: office

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Texas

FAA Outermarker

13418 Kuykendahl Rd.

Houston TX 77090

Landholding Agency: GSA

Property Number: 54201040019

Status: Surplus

GSA Number: 7-U-TX-1128

Comments: 48 sq. ft., construction/alteration prohibited unless a determination of no hazard to air navigation is issued by the FAA, restrictions imposed by ordinances of the city of Houston, possible asbestos/PCBs

Virginia

Tract 05-511, Qrts. 11

7941 Brock Rd.

Spotsylvania VA 22553

Landholding Agency: GSA

Property Number: 54201110001

Status: Excess

GSA Number: 4-I-VA-0756

Comments: 1642 sq. ft., off-site removal only, previously reported by Interior and published as suitable/available in the 10.22.2010 FR

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Fox Island Naval Lab

630 3rd Ave.

Fox Island WA 98333

Landholding Agency: GSA

Property Number: 54201020012

Status: Surplus

GSA Number: 9-D-WA-1245

Comments: 6405 sq. ft.; current use: office and lab

West Virginia

Naval Reserve Center

841 Jackson Ave.

Huntington WV 25704

Landholding Agency: GSA

Property Number: 54200930014

Status: Excess

GSA Number: 4-N-WV-0555

Comments: 31,215 sq. ft., presence of asbestos/lead paint, most recent use—office

Harley O. Staggers Bldg.

75 High St.

Morgantown WV 26505

Landholding Agency: GSA

Property Number: 54201020013

Status: Excess

GSA Number: 4-G-WV-0557

Comments: 57,600 sq. ft.; future owners must maintain exposure prevention methods (details in deed); most recent use: P.O. and federal offices

Land

Arizona

0.23 acres

87th Ave.

Glendale AZ

Landholding Agency: GSA

Property Number: 54201010005

Status: Excess

GSA Number: 9-I-AZ-853

Comments: 0.23 acres used for irrigation canal

Guadalupe Road Land

Ironwood Road

Apache Junction AZ 95971

Landholding Agency: GSA

Property Number: 54201010012

Status: Surplus

GSA Number: 9-AZ-851-1

Comments: 1.36 acres, most recent use—aqueduct reach

Houston Road Land

Ironwood Road

Apache Junction AZ 85278

Landholding Agency: GSA

Property Number: 54201010013

Status: Surplus

GSA Number: 9-AZ-854

Comments: 5.89 acres, most recent use—aqueduct reach

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Parcel F-2 Right of Way

Seal Beach CA 90740

Landholding Agency: GSA

Property Number: 54201030012

Status: Surplus

GSA Number: 9-N-CA-1508-AI

Comments: Correction: 631.62 sq. ft., encroachment

Parcel F-4 Right of Way

Seal Beach CA

Landholding Agency: GSA

Property Number: 54201030014

Status: Surplus

GSA Number: 9-N-CA-1508-AK

Comments: 126.32 sq. ft., within 3 ft. set back required by City

Drill Site #3A

Ford City CA 93268

Landholding Agency: GSA

Property Number: 54201040004

Status: Surplus

GSA Number: 9-B-CA-1673-AG

Comments: 2.07 acres, mineral rights, utility easements

Drill Site #4

Ford City CA 93268

Landholding Agency: GSA

Property Number: 54201040005

Status: Surplus

GSA Number: 9-B-CA-1673-AB

Comments: 2.21 acres, mineral rights, utility easements

Drill Site #6

Ford City CA 93268

Landholding Agency: GSA

Property Number: 54201040006

Status: Surplus

GSA Number: 9-B-CA-1673-AC

Comments: 2.13 acres, mineral rights, utility easements

Drill Site #9

Ford City CA 93268

Landholding Agency: GSA

Property Number: 54201040007

Status: Surplus

GSA Number: 9-B-CA-1673-AH

Comments: 2.07 acres, mineral rights, utility easements

Drill Site #20

Ford City CA 93268

Landholding Agency: GSA

Property Number: 54201040008

Status: Surplus

GSA Number: 9-B-CA-1673-AD

Comments: 2.07 acres, mineral rights, utility easements

Drill Site #22

Ford City CA 93268

Landholding Agency: GSA

Property Number: 54201040009

Status: Surplus

GSA Number: 9-B-CA-1673-AF

Comments: 2.07 acres, mineral rights, utility easements

Drill Site #24

Ford City CA 93268

Landholding Agency: GSA

Property Number: 54201040010

Status: Surplus

GSA Number: 9-B-CA-1673-AE

Comments: 2.06 acres, mineral rights, utility easements

Drill Site #26

Ford City CA 93268

Landholding Agency: GSA

Property Number: 54201040011

Status: Surplus

GSA Number: 9-B-CA-1673-AA

Comments: 2.07 acres, mineral rights, utility easements

Massachusetts

FAA Site

Massasoit Bridge Rd.

Nantucket MA 02554

Landholding Agency: GSA

Property Number: 54200830026

Status: Surplus

GSA Number: MA-0895

Comments: Approx 92 acres, entire parcel within MA Division of Fisheries & Wildlife Natural Heritage & Endangered Species Program

Missouri

Tract LLWAS K3

Mexico City Ave.

Kansas City MO 64153

Landholding Agency: GSA

Property Number: 54200940004

Status: Surplus

GSA Number: 7-U-MO-0687AA

Comments: 0.034 w/easements

FAA

North Congress Ave & 110th St.

Kansas City MO 64153

Landholding Agency: GSA

Property Number: 54201110005

Status: Surplus

GSA Number: 7-U-MO-0688

Comments: Correction from 02/25/2011 Federal Register: .23 acres, legal constraint: utility easement only, current use: vacant land; move to unavailable; expression of interest received

Pennsylvania

Approx. 16.88

271 Sterrettania Rd.

Erie PA 16506

Landholding Agency: GSA

Property Number: 54200820011

Status: Surplus

GSA Number: 4-D-PA-0810

Comments: Vacant land

South Dakota

Tract 133

Ellsworth AFB

Box Elder SD 57706

Landholding Agency: Air Force

Property Number: 18200310004

Status: Unutilized

GSA Number:

Comments: 53.23 acres

Tract 67

Ellsworth AFB

Box Elder SD 57706

Landholding Agency: Air Force

Property Number: 18200310005

Status: Unutilized

GSA Number:

Comments: 121 acres, bentonite layer in soil, causes movement

Texas

Cottonwood Bay

14th St./Skyline Rd.

Grand Prairie TX

Landholding Agency: GSA

Property Number: 54201010004

Status: Surplus

GSA Number: 7-N-TX-846

Comments: 110 acres includes a 79-acre water body, primary storm water discharge basin. Remediation responsibilities, subject to all institutional controls

FAA Outermarker—Houston

Spring TX 77373

Landholding Agency: GSA

Property Number: 54201040001

Status: Surplus

GSA Number: 7-U-TX-1110

Comments: 0.2459 acres, subject to restrictions/regulations regarding the Houston Intercontinental Airport, may not have access to a dedicated roadway

FAA Outermarker

Rt. 156/Rt. 407

Justin TX 76247

Landholding Agency: GSA

Property Number: 54201040002

Status: Surplus

GSA Number: 7-U-TX-1127

Comments: 0.38 acre, FAA restrictions

Utah

Processing and Disposal Site

Monticello UT 84535

Landholding Agency: GSA

Property Number: 54201030008

Status: Surplus

GSA Number: 7-B-UT-431-AO

Comments: 175.41 acres, permanent utility easement, small portion may have contaminated groundwater, most recent use—grazing/farming

Unsuitable Properties

Building

Alabama

5 Bldgs.

Maxwell-Gunter AFB

Maxwell AL 36112

Landholding Agency: Air Force

Property Number: 18201030001

Status: Unutilized

Directions: 28, 423, 811, 839, 1081

Reasons: Secured Area

4 Bldgs.

Birmingham IAP

Birmingham AL

Landholding Agency: Air Force

Property Number: 18201120050

Status: Underutilized

Directions: 202, 204, 205, 391

Reasons: Within 2000 ft. of flammable or explosive material, Secured Area, Extensive deterioration

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Secured Area, Extensive deterioration

Bldgs. 1437, 1190, 2375

Eielson AFB

Eielson AK

Landholding Agency: Air Force

Property Number: 18200830001

Status: Unutilized

Reasons: Secured Area, Extensive deterioration

5 Bldgs.

Eielson AFB

Eielson AK

Landholding Agency: Air Force

Property Number: 18200830002

Status: Unutilized

Directions: 3300, 3301, 3315, 3347, 3383

Reasons: Extensive deterioration, Secured Area

4 Bldgs.

Eielson AFB

Eielson AK

Landholding Agency: Air Force

Property Number: 18200830003

Status: Unutilized

Directions: 4040, 4332, 4333, 4480

Reasons: Secured Area, Extensive deterioration

Bldgs. 6122, 6205

Eielson AFB

Eielson AK

Landholding Agency: Air Force

Property Number: 18200830004

Status: Unutilized

Reasons: Extensive deterioration, Secured Area

Bldg. 8128

Elmendorf AFB

Elmendorf AK 99506

Landholding Agency: Air Force

Property Number: 18200830005

Status: Underutilized

Reasons: Secured Area

Bldgs. 615, 617, 751, 753

Eareckson Air Station

Shemya Island AK

Landholding Agency: Air Force

Property Number: 18200920015

Status: Unutilized

Reasons: Extensive deterioration, Within airport runway clear zone, Within 2000 ft. of flammable or explosive material, Secured Area

Bldgs. 100, 101

Point Barrow Long Range

Radar Site

Point Barrow AK

Landholding Agency: Air Force

Property Number: 18201010001

Status: Unutilized

Reasons: Within airport runway clear zone, Within 2000 ft. of flammable or explosive material

Bldg. 100 and 101

Long Range Radar Site

Point Barrow AK

Landholding Agency: Air Force

Property Number: 18201020003

Status: Unutilized

Reasons: Within airport runway clear zone, Within 2000 ft. of flammable or explosive material

7 Bldgs.

Eareckson Air Station

Eareckson AK 99546

Landholding Agency: Air Force

Property Number: 18201020004

Status: Unutilized

Directions: 132, 152, 153, 750, 3013, 3016, and 4012

Reasons: Extensive deterioration, Within airport runway clear zone, Secured Area

33 Bldgs.

Eielson AFB

Eielson AK 99702

Landholding Agency: Air Force

Property Number: 18201040005

Status: Excess

Directions: 5136, 5137, 5138, 5139, 5140, 5141, 5142, 5143, 5144, 5161, 5162, 5163, 5183, 5184, 5185, 5186, 5196, 5197, 5211, 5255, 5256, 5257, 5259, 5260, 5261, 5262, 5263, 5264, 5265, 5266, 5267, 5268

Reasons: Secured Area, Extensive deterioration

Bldg. 5198 and 5258

660 Edna Street

Eielson AFB AK

Landholding Agency: Air Force

Property Number: 18201120023

Status: Excess

Reasons: Secured Area, Extensive deterioration

5 Bldgs.

Clear AFB

Clear Denali AK

Landholding Agency: Air Force

Property Number: 18201120024

Status: Unutilized

Directions: 101, 103, 104, 105, 150

Reasons: Secured Area, Extensive deterioration

Bldg. 5198

Eielson AFB

Eielson AK 99702

Landholding Agency: Air Force

Property Number: 18201120054

Status: Excess

Reasons: Extensive deterioration, Secured Area

Arizona

Railroad Spur

Davis-Monthan AFB

Tucson AZ 85707

Landholding Agency: Air Force

Property Number: 18200730002

Status: Excess

Reasons: Within airport runway clear zone

Arkansas

Military Family Housing

Eielson AFB

Eielson AR 99702

Landholding Agency: Air Force

Property Number: 18201110007

Status: Excess

Directions: Bldgs: 5258 & 5198

Reasons: Extensive deterioration

California

Garages 25001 thru 25100

Edwards AFB

Area A

Los Angeles CA 93524

Landholding Agency: Air Force

Property Number: 18200620003

Status: Unutilized

Reasons: Extensive deterioration, Secured Area

Bldg. 00275

Edwards AFB

Kern CA 93524

Landholding Agency: Air Force

Property Number: 18200730003

Status: Unutilized

Reasons: Within airport runway clear zone, Extensive deterioration, Secured Area

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Secured Area, Extensive deterioration

Facility 100

Pt. Arena AF Station

Mendocino CA 95468

Landholding Agency: Air Force

Property Number: 18200810004

Status: Excess

Reasons: Extensive deterioration, Secured Area

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Secured Area, Extensive deterioration

Bldgs. 160, 161, 166

Pt. Arena AF Station

Mendocino CA 95468

Landholding Agency: Air Force

Property Number: 18200820020

Status: Excess

Reasons: Secured Area, Extensive deterioration

8 Bldgs.

Pt. Arena AF Station

Mendocino CA 95468

Landholding Agency: Air Force

Property Number: 18200820021

Status: Excess

Directions: 201, 202, 203, 206, 215, 216, 217, 218

Reasons: Secured Area, Extensive deterioration

7 Bldgs.

Pt. Arena AF Station

Mendocino CA 95468

Landholding Agency: Air Force

Property Number: 18200820022

Status: Excess

Directions: 220, 221, 222, 223, 225, 226, 228

Reasons: Secured Area, Extensive deterioration

Bldg. 408

Pt. Arena AF Station

Mendocino CA 95468

Landholding Agency: Air Force

Property Number: 18200820023

Status: Excess

Reasons: Secured Area, Extensive deterioration

Bldgs. 601 thru 610

Pt. Arena AF Station

Mendocino CA 95468

Landholding Agency: Air Force

Property Number: 18200820024

Status: Excess

Reasons: Secured Area, Extensive deterioration

Bldgs. 611-619

Pt. Arena AF Station

Mendocino CA 95468

Landholding Agency: Air Force

Property Number: 18200820025

Status: Excess

Reasons: Secured Area, Extensive deterioration

Bldgs. 620 thru 627

Pt. Arena AF Station

Mendocino CA 95468

Landholding Agency: Air Force

Property Number: 18200820026

Status: Excess

Reasons: Secured Area, Extensive deterioration

Bldgs. 654, 655, 690

Pt. Arena AF Station

Mendocino CA 95468

Landholding Agency: Air Force

Property Number: 18200820027

Status: Excess

Reasons: Secured Area, Extensive deterioration

Bldgs. 300, 387

Pt Arena Comm. Annex

Mendocino CA 95468

Landholding Agency: Air Force

Property Number: 18200820029

Status: Excess

Reasons: Secured Area, Extensive deterioration

Bldgs. 700, 707, 796, 797

Pt. Arena Comm. Annex

Mendocino CA 95468

Landholding Agency: Air Force

Property Number: 18200820030

Status: Excess

Reasons: Secured Area, Extensive deterioration

Bldgs. 748, 838

Vandenberg AFB

Vandenberg CA 93437

Landholding Agency: Air Force

Property Number: 18200820033

Status: Unutilized

Reasons: Secured Area

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

5 Bldgs.

Vandenberg AFB

Santa Barbara CA 93437

Landholding Agency: Air Force

Property Number: 18200940005

Status: Unutilized

Directions: 708, 742, 955, 1836, 13403

Reasons: Secured Area, Extensive deterioration

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration

Bldgs. 1154, 2459, 5114

Beale AFB

Beale CA 95903

Landholding Agency: Air Force

Property Number: 18201010004

Status: Unutilized

Reasons: Extensive deterioration

Bldg. 1213

Beale AFB

Beale CA 95903

Landholding Agency: Air Force

Property Number: 18201030002

Status: Unutilized

Reasons: Extensive deterioration

Bldg. 411

Ft. MacAuthur Family Housing

San Pedro CA

Landholding Agency: Air Force

Property Number: 18201040004

Status: Unutilized

Reasons: Extensive deterioration

Vandenberg AFB

Vandenberg CA 93437

Landholding Agency: Air Force

Property Number: 18201040009

Status: Unutilized

Reasons: Secured Area

37 Bldgs.

Beale AFB

Marysville CA 95901

Landholding Agency: Air Force

Property Number: 18201040014

Status: Unutilized

Directions: 4199, 4205, 4207, 4211, 4215, 4218, 4219, 4222, 4226, 4227, 4229, 4230, 4231, 4238, 4241, 4242, 4256, 4260, 4264, 4268, 4284, 4286, 4308, 4310, 4314, 4318, 4320, 4333, 4341, 4353, 4355, 4382, 4384, 4395, 4397, 4399, 4401

Reasons: Extensive deterioration

38 Bldgs.

Beale AFB

Marysville CA 95901

Landholding Agency: Air Force

Property Number: 18201040015

Status: Unutilized

Directions: 4415, 4417, 4457, 4467, 4475, 4496, 4534, 4598, 4600, 4603, 4605, 4618, 4620, 4634, 4636, 4639, 4641, 4659, 4661, 4664, 4666, 4675, 4677, 4691, 4693, 4703, 4705, 4708, 4710, 4717, 4719, 4724, 4725, 4726, 4727, 4732, 4734, 4522

Reasons: Extensive deterioration

11 Bldgs.

Beale AFB

Marysville CA 95901

Landholding Agency: Air Force

Property Number: 18201040016

Status: Unutilized

Directions: 5205, 5216, 5223, 5228, 5236, 5238, 5277, 5278, 5279, 5294, 5297

Reasons: Extensive deterioration

36 Bldgs.

Beale AFB

Marysville CA 95901

Landholding Agency: Air Force

Property Number: 18201040017

Status: Unutilized

Directions: 3873, 3887, 3919, 3936, 3942, 3947, 3961, 4075, 4103, 4105, 4115, 4118, 4119, 4120, 4122, 4133, 4136, 4137, 4142, 4145, 4148, 4151, 4157, 4158, 4161, 4166, 4171, 4178, 4179, 4181, 4184, 4185, 4189, 4193, 4197, 4198

Reasons: Extensive deterioration

Bldg. 7201

501 Payne Ave

Edwards AFB CA

Landholding Agency: Air Force

Property Number: 18201120046

Status: Underutilized

Reasons: Secured Area, Within airport runway clear zone

Bldgs. 2110 & 2111

Edwards AFB

Edwards AFB CA

Landholding Agency: Air Force

Property Number: 18201120047

Status: Underutilized

Reasons: Within airport runway clear zone, Secured Area

Bldgs. 12 & 14

Jones Rd, Edwards AFB

Edwards AFB CA

Landholding Agency: Air Force

Property Number: 18201120048

Status: Underutilized

Reasons: Within airport runway clear zone, Secured Area

Bldg. 3304

Beale AFB

Beale CA

Landholding Agency: Air Force

Property Number: 18201120049

Status: Unutilized

Reasons: Extensive deterioration

3 Bldgs.

Beale AFB

Beale CA

Landholding Agency: Air Force

Property Number: 18201120053

Status: Unutilized

Directions: 5705, 5706, 5707

Reasons: Within 2000 ft. of flammable or explosive material, Secured Area, Extensive deterioration

Bldgs. 459 and 646

Naval Base Coronado

Coronado CA 92135

Landholding Agency: Navy

Property Number: 77201120003

Status: Excess

Reasons: Secured Area, Extensive deterioration

Colorado

Bldg. 9038

U.S. Air Force Academy

El Paso CO 80840

Landholding Agency: Air Force

Property Number: 18200920004

Status: Unutilized

Reasons: Extensive deterioration

Bldg. 6980

U.S. Air Force Academy

El Paso CO 80840

Landholding Agency: Air Force

Property Number: 18200940009

Status: Unutilized

Reasons: Secured Area

Bldgs. 6966, 6968, 6930, 6932

USAF Academy

El Paso CO 80840

Landholding Agency: Air Force

Property Number: 18201010005

Status: Unutilized

Reasons: Secured Area

Bldg. 1413

Buckley AFB

Aurora CO

Landholding Agency: Air Force

Property Number: 18201020006

Status: Unutilized

Reasons: Extensive deterioration, Secured Area

7 Bldgs.

U.S. Air Force Academy

El Paso CO 80840

Landholding Agency: Air Force

Property Number: 18201030004

Status: Unutilized

Directions: 2330, 2331, 2332, 2333, 3190, 9020, 9035

Reasons: Secured Area

2 Bldgs.

N. Peterson Blvd.

Colorado Springs CO 80914

Landholding Agency: Air Force

Property Number: 18201040003

Status: Excess

Directions: 670, 1820

Reasons: Within 2000 ft. of flammable or explosive material, Other—legal constraints—leased from City

Florida

Bldg. 82

Air Force Range

Avon Park FL 33825

Landholding Agency: Air Force

Property Number: 18200840002

Status: Unutilized

Reasons: Contamination, Secured Area

Bldg. 202

Avon Park AF Range

Polk FL 33825

Landholding Agency: Air Force

Property Number: 18200930005

Status: Unutilized

Reasons: Extensive deterioration

Facility 47120

Cape Canaveral AFB

Brevard FL 32925

Landholding Agency: Air Force

Property Number: 18200940010

Status: Unutilized

Reasons: Secured Area

15 Bldgs.

Tyndall AFB

Bay FL 32403

Landholding Agency: Air Force

Property Number: 18201010006

Status: Unutilized

Directions: 129, 131, 138, 153, 156, 419, 743, 745, 1003, 1269, 1354, 1355, 1506, 6063, 6067

Reasons: Secured Area

4 Bldgs.

Cape Canaveral AFS

Brevard FL 32925

Landholding Agency: Air Force

Property Number: 18201010007

Status: Unutilized

Directions: 56621, 56629, 56632, 67901

Reasons: Secured Area

Bldgs. 1622, 60408, and 60537

Cape Canaveral AFS

Brevard FL 32925

Landholding Agency: Air Force

Property Number: 18201020007

Status: Unutilized

Reasons: Secured Area

13 Bldgs.

Tyndall AFB

Bay FL 32403

Landholding Agency: Air Force

Property Number: 18201020008

Status: Excess

Directions: B111, B113, B115, B205, B206, B501, B810, B812, B824, B842, B1027, B1257, and B8402

Reasons: Secured Area, Within 2000 ft. of flammable or explosive material

Bldg. 90023

Hurlburt Field

Hurlburt FL 32544

Landholding Agency: Air Force

Property Number: 18201030005

Status: Unutilized

Reasons: Extensive deterioration, Secured Area

Bldg. 89002

Cape Canaveral AFS

Brevard FL 32920

Landholding Agency: Air Force

Property Number: 18201030006

Status: Unutilized

Reasons: Secured Area, Within 2000 ft. of flammable or explosive material

9 Bldgs

Cape Canaveral AFS FL 32925

Landholding Agency: Air Force

Property Number: 18201110009

Status: Unutilized

Directions: Bldgs: 44606, 49942, 70650, 78710, 07702, 8801, 8806, 8814, 10751

Reasons: Secured Area

4 Bldgs

Cape Canaveral

Cape Canaveral FL 32925

Landholding Agency: Air Force

Property Number: 18201120025

Status: Excess

Directions: 5401, 5403, 7200, 60748

Reasons: Secured Area

10 Bldgs.

Tyndall AFB

Tyndall FL 32403

Landholding Agency: Air Force

Property Number: 18201120027

Status: Underutilized

Directions: 505, 729, 1013, 1015, 1016, 1476, 1701, 6014, 6016, 6020

Reasons: Secured Area, Extensive deterioration, Within 2000 ft. of flammable or explosive material

Bldgs. 6028 and 6030

Florida Ave

Tyndall FL 32403

Landholding Agency: Air Force

Property Number: 18201120028

Status: Underutilized

Reasons: Within 2000 ft. of flammable or explosive material, Within airport runway clear zone, Extensive deterioration, Secured Area, Floodway

6 Bldgs.

Tyndall AFB

Tyndall FL

Landholding Agency: Air Force

Property Number: 18201120055

Status: Underutilized

Directions: B106, B124, B164, B180, B181, B182

Reasons: Within 2000 ft. of flammable or explosive material, Within airport runway clear zone, Secured Area, Extensive deterioration

10 Bldgs.

Tyndall AFB

Tyndall FL

Landholding Agency: Air Force

Property Number: 18201120057

Status: Underutilized

Directions: 505, 729, 1013, 1015, 1016, 1476, 1701, 6014, 6016, 6020

Reasons: Within 2000 ft. of flammable or explosive material, Secured Area, Extensive deterioration

Georgia

6 Cabins

QSRG Grassy Pond Rec. Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Extensive deterioration, Secured Area

Bldgs. 104, 118, 739, 742, 973

Moody AFB

Lowndes GA 31699

Landholding Agency: Air Force

Property Number: 18200920016

Status: Unutilized

Reasons: Secured Area, Extensive deterioration

Bldgs. 134, 804, 841, 978

Moody AFB

Moody AFB GA 31699

Landholding Agency: Air Force

Property Number: 18201010008

Status: Underutilized

Reasons: Secured Area

Bldgs. 665 and 1219

Moody AFB

Moody AFB GA 31699

Landholding Agency: Air Force

Property Number: 18201020009

Status: Underutilized

Reasons: Secured Area

7 Bldgs.

Moody AFB

Moody GA 31699

Landholding Agency: Air Force

Property Number: 18201030007

Status: Unutilized

Directions: 112, 150, 716, 719, 757, 1220, 1718

Reasons: Secured Area

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Secured Area, Extensive deterioration

Bldgs. 101, 102

Andersen AFB

Pots Junction GU

Landholding Agency: Air Force

Property Number: 18200920018

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 1716

RPUID

Wake Island HI

Landholding Agency: Air Force

Property Number: 18201010009

Status: Unutilized

Reasons: Secured Area, Extensive deterioration

Bldg. 12

Kokee AFS

Waimea HI

Landholding Agency: Air Force

Property Number: 18201010010

Status: Unutilized

Reasons: Extensive deterioration

Bldg. 501

Hickam AFB

Hickam HI

Landholding Agency: Air Force

Property Number: 18201010011

Status: Unutilized

Reasons: Secured Area

6 Bldgs.

Kaena Point Satellite

Tracking Station

Honolulu HI

Landholding Agency: Air Force

Property Number: 18201010012

Status: Excess

Directions: 16, 18, 20, 21, 32, 33

Reasons: Extensive deterioration

Bldgs. 39 and 14111

Kaena Point Satellite Tracking Station

Honolulu HI 96792

Landholding Agency: Air Force

Property Number: 18201020010

Status: Excess

Reasons: Secured Area, Within 2,000 ft. of flammable or explosive material

Bldg. 00024

USA Field Station Kunia

Wahiawa HI 96786

Landholding Agency: Army

Property Number: 2120112,0006

Status: Unutilized

Directions: Next to warehouse, bldg. 25, SE corner of Kunia parking lot

Reasons: Secured Area, Extensive deterioration, Not accessible by road

Indiana

Bldg. 103

Grissom AFB

Peru IN 46970

Landholding Agency: Air Force

Property Number: 18200940011

Status: Excess

Reasons: Within 2,000 ft. of flammable or explosive material

Bldg. 18

Grissom AFB

Peru IN 46970

Landholding Agency: Air Force

Property Number: 18201020012

Status: Excess

Reasons: Within 2,000 ft. of flammable or explosive material

Iowa

Bldg 01110, Iowa Army Ammo

17575 State Highway 79

Middletown IA 52601

Landholding Agency: Army

Property Number: 2120112,0005

Status: Unutilized

Reasons: Secured Area, Within 2,000 ft. of flammable or explosive material, Extensive deterioration, Not accessible by road

Kansas

27 Bldgs.

McConnell AFB

Sedgwick KS 67210

Landholding Agency: Air Force

Property Number: 18201020013

Status: Excess

Directions: 2052, 2347, 2054, 2056, 2044, 2047, 2049, 2071, 2068, 2065, 2063, 2060, 2237, 2235, 2232, 2230, 2352, 2349, 2345, 2326, 2328, 2330, 2339, 2324, 2342, 2354, and 2333

Reasons: Secured Area

Louisiana

Barksdale Middle Marker

Bossier LA 71112

Landholding Agency: Air Force

Property Number: 18200730006

Status: Excess

Reasons: Extensive deterioration

TARS Sites 1-6

Morgan City LA 70538

Landholding Agency: Air Force

Property Number: 18201020014

Status: Unutilized

Reasons: Secured Area

6 Bldgs.

AFB

Barksdale LA

Landholding Agency: Air Force

Property Number: 18201110001

Status: Underutilized

Directions: Bldgs: 5163, 5175, 7227, 7266, 7321, 7322

Reasons: Extensive deterioration, Within 2,000 ft. of flammable or explosive material, Secured Area

Bldgs. 5745 and 7253

615 Davis Ave.

Barksdale LA

Landholding Agency: Air Force

Property Number: 18201120022

Status: Underutilized

Reasons: Extensive deterioration, Secured Area, Within 2,000 ft. of flammable or explosive material

Bldgs. 7253 & 7254

Barksdale AFB

Barksdale LA

Landholding Agency: Air Force

Property Number: 18201120035

Status: Underutilized

Reasons: Within 2,000 ft. of flammable or explosive material, Secured Area, Extensive deterioration

Bldg. 7254

Barksdale AFB

Barksdale LA

Landholding Agency: Air Force

Property Number: 18201120056

Status: Underutilized

Reasons: Within 2,000 ft. of flammable or explosive material, Extensive deterioration

USACE Radio Tower Site

U.S. Army COE

Blanchard LA 71104

Landholding Agency: GSA

Property Number: 5420112,0008

Status: Surplus

GSA Number: 7-D-LA-564-N

Comments: Landlocked-—can only be accessible by crossing private property

Reasons: Not accessible by road

Maine

Facilities 1, 2, 3, 4

OTH-B Site

Moscow ME 04920

Landholding Agency: Air Force

Property Number: 18200730007

Status: Unutilized

Reasons: Within 2,000 ft. of flammable or explosive material

Bldgs. B496 and 497

Bangor Internatl Airport

Bangor ME 04401

Landholding Agency: Air Force

Property Number: 18201020015

Status: Unutilized

Reasons: Secured Area

Maryland

No. NA74

NSA

Annapolis MD 21402

Landholding Agency: Navy

Property Number: 7720112,0004

Status: Underutilized

Reasons: Secured Area, Floodway

Massachusetts

Bldg. 180

180 Guard Shack

Otis MA

Landholding Agency: Air Force

Property Number: 18201120040

Status: Underutilized

Reasons: Within airport runway clear zone, Extensive deterioration, Secured Area

Bldg. 191

191 Izzea St.

Otis ANGB MA

Landholding Agency: Air Force

Property Number: 18201120041

Status: Underutilized

Reasons: Within airport runway clear zone, Secured Area

Bldg. 198

198 Izzea St.

Otis ANGB MA

Landholding Agency: Air Force

Property Number: 18201120042

Status: Underutilized

Reasons: Extensive deterioration, Secured Area

Bldg. 201

201 Reilly St.

Otis MA

Landholding Agency: Air Force

Property Number: 18201120043

Status: Underutilized

Reasons: Secured Area, Extensive deterioration

Bldg. 3230

3230 Simpkins Rd.

Otis MA

Landholding Agency: Air Force

Property Number: 18201120044

Status: Underutilized

Reasons: Extensive deterioration

23 Bldgs.

USCG Air Station Cape Cod

Bourne MA 02542

Landholding Agency: Coast Guard

Property Number: 88201120004

Status: Excess

Directions: 5301, 5306, 5313, 5321, 5369, 5402, 5404, 5405, 5406, 5407, 5439, 5442, 5445, 5447, 5452, 5667, 5668, 5675, 5681, 5683, 5686

Reasons: Secured Area

Michigan

10 Bldgs.

Malmstorm AFB

Malmstorm MI

Landholding Agency: Air Force

Property Number: 18201120036

Status: Unutilized

Directions:130, 226, 248, 320, 370, 448, 471, 650, 1145, 1151

Reasons: Secured Area

5 Bldgs.

Malmstrom AFB

Malmstrom MI

Landholding Agency: Air Force

Property Number: 18201120037

Status: Unutilized

Directions: 1192, 1702, 1884, 2000, 4000

Reasons: Secured Area

6 Bldgs.

Alpena CRTC

Alpena MI

Landholding Agency: Air Force

Property Number: 18201120045

Status: Underutilized

Directions: 322, 323, 324, 403, 412, 413

Reasons: Secured Area, Within 2000 ft. of flammable or explosive material

Mississippi

5 Bldgs

AFB

Keesler MS 39534

Landholding Agency: Air Force

Property Number: 18201110004

Status: Excess

Directions: Bldgs: B2804, B4203, B4812, B6903, B6918

Reasons: Secured Area

Bldg. 1809

Columbus AFB

Columbus MS 39710

Landholding Agency: Air Force

Property Number: 18201120030

Status: Excess

Reasons: Extensive deterioration, within 2000 ft. of flammable or explosive material

Montana

Bldgs. 1600, 1601

Malmstrom AFB

Cascade MT 59402

Landholding Agency: Air Force

Property Number: 18200920020

Status: Unutilized

Reasons: Extensive deterioration, Within 2000 ft. of flammable or explosive material, Secured Area

7 Bldgs. AFB

107 77th Street North

Malmstrom AFB

Malmstrom MT 59402-7540

Landholding Agency: Air Force

Property Number: 18201110002

Status: Underutilized

Directions: 581, 800, 1082, 1152, 1156, 1705, 3065

Reasons: Secured Area

Nebraska

Bldgs. 163, 402, 554

Offutt AFB

Offutt NE 68113

Landholding Agency: Air Force

Property Number: 18201030008

Status: Excess

Reasons: Secured Area

New Hampshire

Bldg. 152

Pease Internatl Tradeport

Newington NH 03803

Landholding Agency: Air Force

Property Number: 18200920007

Status: Unutilized

Reasons: Within 2000 ft. of flammable or explosive material, Secured Area

Bldg. 16

Pease Internatl Tradeport

Newington NH 03803

Landholding Agency: Air Force

Property Number: 18200930006

Status: Excess

Reasons: Within 2000 ft. of flammable or explosive material

Bldg. 256

Portsmouth Int'l Airport

Newington NH

Landholding Agency: Air Force

Property Number: 18201120038

Status: Excess

Reasons: Within 2000 ft. of flammable or explosive material, Secured Area

New Jersey

Bldgs. 2609, 2611

Joint Base

McGuire NJ

Landholding Agency: Air Force

Property Number: 18201010013

Status: Unutilized

Reasons: Extensive deterioration

5 Bldgs.

Joint Base McGuire-Dix-Lakehurst

Trenton NJ 08641

Landholding Agency: Air Force

Property Number: 18201020016

Status: Unutilized

Directions: 1827, 1925, 3424, 3446, and 3449

Reasons: Secured Area, Extensive deterioration

New Mexico

Bldg. 1016

Kirtland AFB

Bernalillo NM 87117

Landholding Agency: Air Force

Property Number: 18200730008

Status: Unutilized

Reasons: Within 2000 ft. of flammable or explosive material, Secured Area, Extensive deterioration

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Secured Area, Within 2000 ft. of flammable or explosive material

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Within 2000 ft. of flammable or explosive material, Secured Area, Extensive deterioration

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Secured Area, Within 2000 ft. of flammable or explosive material

Bldgs. 807, 833

Holloman AFB

Otero NM 88330

Landholding Agency: Air Force

Property Number: 18200830023

Status: Unutilized

Reasons: Within 2000 ft. of flammable or explosive material, Secured Area

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

Bldg. 30143

Kirtland AFB

Bernalillo NM 87117

Landholding Agency: Air Force

Property Number: 18200930009

Status: Excess

Reasons: Secured Area, Extensive deterioration, Within 2000 ft. of flammable or explosive material

Bldg. 1267, 1620

Holloman AFB

Otero NM 88330

Landholding Agency: Air Force

Property Number: 18200940013

Status: Unutilized

Reasons: Secured Area

Bldgs. 214, 851, 1199

Holloman AFB

Holloman AFB NM 88330

Landholding Agency: Air Force

Property Number: 18201010014

Status: Underutilized

Reasons: Secured Area

Bldg. 865

Holloman AFB

Otero NM 88330

Landholding Agency: Air Force

Property Number: 18201030009

Status: Unutilized

Reasons: Extensive deterioration, Within 2000 ft. of flammable or explosive material, Secured Area

Bldg. 790

Holloman AFB

Otero NM 88330

Landholding Agency: Air Force

Property Number: 18201030013

Status: Unutilized

Reasons: Extensive deterioration, Secured Area

Bldg. 880

1241 Moroni

Holloman NM 88330

Landholding Agency: Air Force

Property Number: 18201040001

Status: Unutilized

Reasons: Secured Area

Bldg. 825

Holloman AFB

Holloman NM 88330

Landholding Agency: Air Force

Property Number: 18201040002

Status: Unutilized

Reasons: Extensive deterioration

4 Bldgs.

Kirtland AFB

Kirtland NM

Landholding Agency: Air Force

Property Number: 18201120034

Status: Underutilized

Directions: 376, 614, 1905, 30101

Reasons: Secured Area, Within 2000 ft. of flammable or explosive material, Extensive deterioration

North Dakota

Bldgs. 1612, 1741

Grand Forks AFB

Grand Forks ND 58205

Landholding Agency: Air Force

Property Number: 18200720023

Status: Unutilized

Reasons: Within 2000 ft. of flammable or explosive material, Secured Area

5 Bldgs.

4128 27th Ave.

Grand Forks ND 58203

Landholding Agency: Air Force

Property Number: 18201040012

Status: Unutilized

Directions: 120, 200, 250, 255, 300

Reasons: Within 2000 ft. of flammable or explosive material

Ohio

Boat House

2 Coast Guard Rd

Grand River OH 44045

Landholding Agency: Coast Guard

Property Number: 88201120005

Status: Excess

Reasons: Secured Area, Extensive deterioration

Station Opscenter

2 Coast Guard Rd.

Grand River OH 44045

Landholding Agency: Coast Guard

Property Number: 88201120006

Status: Excess

Reasons: Extensive deterioration, Secured Area

Storage Bldg.

2 Coast Guard Rd.

Grand River OH 44045

Landholding Agency: Coast Guard

Property Number: 88201120007

Status: Excess

Reasons: Secured Area, Extensive deterioration

Maintenance Shop

2 Coast Guard Rd.

Grand River OH 44045

Landholding Agency: Coast Guard

Property Number: 88201120008

Status: Excess

Reasons: Extensive deterioration, Secured Area

Oklahoma

3 Bldgs.

Altus AFB

Altus OK 73523

Landholding Agency: Air Force

Property Number: 18201040013

Status: Excess

Directions: 296, 444, 503

Reasons: Within 2000 ft. of flammable or explosive material, Within airport runway clear zone

Control Tower Facility 163

626 Elam Road

Vance Air Force Base

Vance OK

Landholding Agency: Air Force

Property Number: 18201110006

Status: Excess

Reasons: Within airport runway clear zone, Secured Area

Bldg. 39, AGGN

500 North First Street

Altus OK

Landholding Agency: Air Force

Property Number: 18201120019

Status: Excess

Reasons: Secured Area

Bldg 415

605 N. Perimeter Rd

Altus OK 73523

Landholding Agency: Air Force

Property Number: 18201120020

Status: Excess

Reasons: Secured Area

7 Bldgs.

AGGN

Altus OK

Landholding Agency: Air Force

Property Number: 18201120021

Status: Excess

Directions: 296, 358, 374, 376, 377, 413, 445

Reasons: Secured Area

11 Bldgs.

4329 N. Corsair Ave

Tulsa Int'l Airport

Tulsa OK 74115

Landholding Agency: Air Force

Property Number: 18201120026

Status: Underutilized

Directions: 802, 803, 804, 805, 806, 807, 808, 809, 810, 811, 812

Reasons: Secured Area, Within airport runway clear zone, Extensive deterioration

Facility 188

1065 Elam Road

Vance AFB

Enid OK

Landholding Agency: Air Force

Property Number: 18201120033

Status: Excess

Reasons: Within airport runway clear zone, Secured Area

Oregon

Bldg. 1001

ANG Base

Portland OR 97218

Landholding Agency: Air Force

Property Number: 18200820018

Status: Underutilized

Reasons: Secured Area, within 2000 ft. of flammable or explosive material

Puerto Rico

6 Bldgs.

USAG

Fort Buchanan PR 00934

Landholding Agency: Army

Property Number: 21201120001

Status: Excess

Directions: 1252, 1253, 1254, 1255, 1256, 1257

Reasons: Extensive deterioration

6 Bldgs.

USAG

Fort Buchanan PR 00934

Landholding Agency: Army

Property Number: 21201120002

Status: Excess

Directions: 1274, 1275, 1276, 1277, 1278, 1279

Reasons: Extensive deterioration

6 Bldgs.

USAG

Fort Buchanan PR 00934

Landholding Agency: Army

Property Number: 21201120003

Status: Excess

Directions: 1280, 1281, 1282, 1283, 1285, 1286

Reasons: Extensive deterioration

4 Bldgs.

USAG

Fort Buchanan PR 00934

Landholding Agency: Army

Property Number: 21201120004

Status: Excess

Directions: 1287, 1288, 1289, 1290

Reasons: Extensive deterioration

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

Bldg. B1626

Shaw AFB

Sumter SC 29152

Landholding Agency: Air Force

Property Number: 18200930010

Status: Unutilized

Reasons: Secured Area, within 2000 ft. of flammable or explosive material

10 Bldgs.

Shaw AFB

Sumter SC 29152

Landholding Agency: Air Force

Property Number: 18200940014

Status: Unutilized

Directions: B16, B34, B122, B219, B220, B221, B403, B418, B428, B430

Reasons: Secured Area

5 Bldgs.

Shaw AFB

Sumter SC 29152

Landholding Agency: Air Force

Property Number: 18200940015

Status: Unutilized

Directions: B800, B900, B911, B1040, B1041

Reasons: Secured Area

7 Bldgs.

Shaw AFB

Sumter SC 29152

Landholding Agency: Air Force

Property Number: 18200940016

Status: Unutilized

Directions: B1702, B1707, B1708, B1804, B1813, B1907, B5226

Reasons: Secured Area

7 Bldgs.

Shaw AFB

Sumter SC 29152

Landholding Agency: Air Force

Property Number: 18201020017

Status: Unutilized

Directions: B1026, B400, B401, B1402, B1701, B1711, and B1720

Reasons: Secured Area

Bldgs. B40006 and B40009

Shaw AFB

Wedgefield SC 29168

Landholding Agency: Air Force

Property Number: 18201020018

Status: Unutilized

Reasons: Secured Area

Bldg. B411

Shaw AFB

Sumter SC 29152

Landholding Agency: Air Force

Property Number: 18201030010

Status: Excess

Reasons: Secured Area, within 2000 ft. of flammable or explosive material

25 Bldgs.

JB Charleston

N. Charleston SC 29404

Landholding Agency: Air Force

Property Number: 18201040006

Status: Excess

Directions: 1501B, 1503A, 1503B, 1506A, 1508A, 1508B, 1512A, 1514A, 1520A, 1520B, 1529A, 1531A, 1531B, 1533A, 1533B, 1537A, 1539A, 1540A, 1540B, 1563A, 1563B, 1565B, 1576A, 1577A, 1577B

Reasons: Secured Area

20 Bldgs.

JB Charleston

N. Charleston SC 29404

Landholding Agency: Air Force

Property Number: 18201040007

Status: Excess

Directions: 1505A, 1505B, 1506B, 1507B, 1510A, 1510B, 1514B, 1516A, 1516B, 1518B, 1532B, 1533B, 1538B, 1539B, 1575B, 1576B, 1578B, 1579B, 1580A, 1580B

Reasons: Secured Area

13 Bldgs.

JB Charleston

N. Charleston SC 29404

Landholding Agency: Air Force

Property Number: 18201040008

Status: Excess

Directions: 1501A, 1507A, 1509A, 1517A, 1518A, 1533A, 1535A, 1538A, 1565A, 1575A, 1578A, 1579A, 1688A

Reasons: Secured Area

4 Bldgs.

JB AFB

N. Charleston SC 29404

Landholding Agency: Air Force

Property Number: 18201040010

Status: Excess

Directions: 1515, 1530, 1536, 1571

Reasons: Secured Area

12 Bldgs.

JB Charleston

N. Charleston SC 29404

Landholding Agency: Air Force

Property Number: 18201040018

Status: Excess

Directions: 1512B, 1529B, 1537B, 1519A, 1519B, 1688B, 1690A, 1690B, 1509B, 1517B, 1521A, 1521B

Reasons: Secured Area

2 Bldgs.

Edwards AFB

Edwards SC 93524

Landholding Agency: Air Force

Property Number: 18201040019

Status: Excess

Directions: 1014, 1015

Reasons: Secured Area

B113

102 Patrol Rd.

Sumter SC

Landholding Agency: Air Force

Property Number: 18201120051

Status: Excess

Reasons: Secured Area, Within 2000 ft. of flammable or explosive material

South Dakota

Bldg. 2306

Ellsworth AFB

Meade SD 57706

Landholding Agency: Air Force

Property Number: 18200740008

Status: Underutilized

Reasons: Within 2000 ft. of flammable or explosive material, Secured Area

Bldg. 6927

Ellsworth AFB

Meade SD 57706

Landholding Agency: Air Force

Property Number: 18200830011

Status: Unutilized

Reasons: Secured Area, within 2000 ft. of flammable or explosive material

Tennessee

Bldgs. 250 & 506

PSXE (Mcghee Tyson Aprt)

320 Post Ave., McGhee Tyson ANG

Louisville TN

Landholding Agency: Air Force

Property Number: 18201120039

Status: Excess

Reasons: Extensive deterioration, Secured Area

Texas

Bldg. 1001

FNXC, Dyess AFB

Tye TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. FNXH 2001

Dyess AFB

Dyess AFB TX 79607

Landholding Agency: Air Force

Property Number: 18200930011

Status: Unutilized

Reasons: Secured Area, Within 2000 ft. of flammable or explosive material

6 Bldgs.

Dyess AFB

Dyess AFB TX 79607

Landholding Agency: Air Force

Property Number: 18200930013

Status: Unutilized

Directions: FNWZ 7235, 7312, 7405, 8045, 8120, 9113

Reasons:Secured Area

4 Bldgs.

Dyess AFB

Dyess AFB TX

Landholding Agency: Air Force

Property Number: 18200940017

Status: Unutilized

Directions: FNWZ 5017, 5305, 6015, 6122

Reasons: Secured Area

Bldg. 351

Laughlin AFB

Del Rio TX 78840

Landholding Agency: Air Force

Property Number: 18201010016

Status: Unutilized

Reasons: Secured Area

Bldgs. 6115, 6126, 6127

Dyess AFB

Dyess TX 79607

Landholding Agency: Air Force

Property Number: 18201030011

Status: Underutilized

Reasons: Secured Area

8 Bldgs.

AFB

Sheppard TX 76311-2621

Landholding Agency: Air Force

Property Number: 18201110003

Status: Unutilized

Directions: Bldgs: 17, 19, 21, 147, 526, 726, 982, 1664

Reasons: Extensive deterioration

Bldg. 111

AFB

Goodfellow TX 76908

Landholding Agency: Air Force

Property Number: 18201110012

Status: Excess

Reasons: Secured Area

5 Bldgs.

Goodfellow AFB

Goodfellow TX

Landholding Agency: Air Force

Property Number: 18201120029

Status: Excess

Directions: 137, 139, 144, 320, 712

Reasons: Extensive deterioration, Within 2000 ft. of flammable or explosive material, Secured Area

Facility 6120 & 6122

Lackland AFB

Lackland TX

Landholding Agency: Air Force

Property Number: 18201120031

Status: Underutilized

Reasons: Secured Area, Extensive deterioration

3 Bldgs.

Lackland AFB

Lackland TX

Landholding Agency: Air Force

Property Number: 18201120032

Status: Underutilized

Directions: 6119, 6125, 6309

Reasons: Extensive deterioration, Secured Area

Virginia

12 Bldgs

Langley AFB

Langley VA 23665

Landholding Agency: Air Force

Property Number: 18200920012

Status: Unutilized

Directions: 35, 36, 903, 905, 1013, 1020, 1033, 1050, 1066, 1067, 1069, 1075

Reasons: Floodway, Secured Area

Bldgs. 38, 52

Langley AFB

Langley VA 23665

Landholding Agency: Air Force

Property Number: 18201010018

Status: Unutilized

Reasons: Extensive deterioration, Secured Area

Bldgs. 52, 568, 731

Langley AFB

Langley VA 23665

Landholding Agency: Air Force

Property Number: 18201030012

Status: Unutilized

Reasons: Secured Area, Extensive deterioration

Joint Base Langley Eustis

AFB

Ft. Eustis VA 23604

Landholding Agency: Air Force

Property Number: 18201110011

Status: Unutilized

Reasons: Extensive deterioration

Bldgs. 11 & 12

Langley AFB

Langley VA

Landholding Agency: Air Force

Property Number: 18201120052

Status: Underutilized

Reasons: Secured Area

Tract #01-101 & Tract #04-102

National Park Service

Yorktown VA 23690

Landholding Agency: Interior

Property Number: 61201120004

Status: Excess

Reasons: Extensive deterioration

Washington

Defense Fuel Supply Point

18 structures/21 acres

Mukilteo WA

Landholding Agency: Air Force

Property Number: 18200910001

Status: Unutilized

Reasons: Extensive deterioration

West Virginia

Bldgs. 102, 106, 111

Air National Guard

Martinsburg WV 25405

Landholding Agency: Air Force

Property Number: 18200920013

Status: Unutilized

Reasons: Within 2000 ft. of flammable or explosive material, Secured Area

Bldgs. 101, 110

Air National Guard

Martinsburg WV 25405

Landholding Agency: Air Force

Property Number: 18200940018

Status: Unutilized

Reasons: Within 2000 ft. of flammable or explosive material, Secured Area

Wyoming

Bldg. 00012

Cheyenne RAP

Laramie WY 82009

Landholding Agency: Air Force

Property Number: 18200730013

Status: Unutilized

Reasons: Extensive deterioration, Within 2000 ft. of flammable or explosive material, Secured Area

Land

California

Facilities 99001 thru 99006

Pt Arena AF Station

Mendocino CA 95468

Landholding Agency: Air Force

Property Number: 18200820028

Status: Excess

Reasons: Secured Area

7 Facilities

Pt. Arena Comm. Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Florida

Defense Fuel Supply Point

Lynn Haven FL 32444

Landholding Agency: Air Force

Property Number: 18200740009

Status: Excess

Reasons: Floodway

Illinois

Annex

Scolt Radio Relay

Belleville IL 62221

Landholding Agency: Air Force

Property Number: 18201020011

Status: Unutilized

Reasons: Secured Area

Indiana

1.059 acres

Grissom AFB

Peru IN 46970

Landholding Agency: Air Force

Property Number: 18200940012

Status: Excess

Reasons: Within 2,000 ft. of flammable or explosive material

North Dakota

JFSE

4128 27th Ave.

Grand Forks ND 58203

Landholding Agency: Air Force

Property Number: 18201040011

Status: Unutilized

Reasons: Within 2,000 ft. of flammable or explosive material

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2,000 ft. of flammable or explosive material

2.43 acre/0.36 acre

Dyess AFB

Dyess AFB TX 79563

Landholding Agency: Air Force

Property Number: 18200930014

Status: Unutilized

Directions: FNXL 99104, 99108, 99110, 99112/FNXM 99102, 99103, 99108

Reasons: Within airport runway clear zone

[FR Doc. 2011-13591 Filed 6-2-11; 8:45 am]

BILLING CODE 4210-67-P